DEPARTMENT OF HOMELAND SECURITY

Science and Technology Directorate; Submission for Review; Revision of Currently Approved Information Collection Requests for Support Anti-terrorism by Fostering Effective Technologies Act of 2002 (SAFETY ACT)—Application Kit and Forms 002 Through 005

AGENCY: Department of Homeland Security, Science and Technology Directorate.

ACTION: Notice; 60-day notice request for review and comments.

SUMMARY: The Department of Homeland Security (DHS) invites the general public and other Federal agencies to comment on revised information collection requests (ICRs) 1640-0001, 1640-0002, 1640-0003, 1640-0004, 1640-0005, and 1640-0006, SAFETY ACT Application Kit and Forms 003 through 007. As required by the Paperwork Reduction Act of 1995, (Pub. L. 104-13, 44 U.S.C. chapter 35) DHS is soliciting comments on the revisions for the approved information collection requests. The ICRs previously were published in the Federal Register on October 16, 2003, at 68 FR 59696, allowing for OMB review and a 60-day public comment period, and on February 20, 2004 at 69 FR 7978 to allow for an additional 30-day public comment period. The revised ICR submissions set forth in this Notice incorporate comments received by DHS as applicable.

Discussion of Comments and Changes

Application Preparation Burden

Six commenters expressed concern that the amount and type of information required in the Application Kit is burdensome, if not prohibitive, and that only large companies will be able to bring to bear the preparation resources required to answer all of the questions. One commenter estimated costs in excess of $1M to prepare applications for its various Anti-Terrorism Technologies (ATTs). Other commenters estimated the preparation effort at 1000 staff hours or more per application. Commenters also expressed the opinion that some of the information being requested—particularly financial information—is not relevant to the evaluation of applications against the criteria of the Act.

The Department has been, and continues to remain, sensitive to concerns about the application process, and the perceived difficulty of preparing and submitting an application. Consequently, the Department specifically solicited comments on the Application Kit and process in the Interim Rule. Based on both the comments received concerning the initial Application Kit as well as the experience of the Office of SAFETY Act Implementation (OSAI) with the applications filed to date, OSAI has published numerous Frequently Asked Questions on its Web site as well as undertaken a substantial revision of the Application Kit.

The Department is very sensitive to the perceived difficulty, and required monetary and personnel resources required to complete an Application for SAFETY Act Benefits. In order to obtain specific data on this issue, in July 2004 the Director of the Office of SAFETY Act Implementation personally spoke with each company that submitted a full application to obtain feedback regarding the time and effort that companies invested in completing the application. The responses indicated that the amount of time was proportional to the size of the company, with small to medium sized organizations spending considerably less time compiling the information required to complete the application then did large corporations with more cumbersome internal bureaucratic processes. Overall, it appears it takes most organizations approximately 150 hours to complete the full application utilizing the prior version of the application kit. The shortest time reported was 25 hours and the most was 1000. Discussions with the single applicant that spent the 1000 hours revealed that the time resulted from its team approach and consequent internal staffing decisions coupled with the numerous internal approval processes necessary prior to submission of the application, not from the complexity of the application itself. Confirmation of this assessment came from discussions with two applicants of similar size; one reported its application took no more than 100 hours across the entire company and the other reported 200 hours. Based on this information, the Department is confident that it is the business practices of the particular applicant that resulted in the extraordinary investment of time in completing the application, and not the application itself or the Department's implementation of the SAFETY Act.

The Department agrees that some of the financial information requested in the existing Application kit is not essential to the evaluation of every application. The Department has decided to limit the amount of financial information requested as part of the initial submission and to supplement the information as needed throughout the evaluation process. The revised Application Kit reflects these changes.

Certifying “Accuracy and Completeness''

Two commenters expressed the opinion that it is unreasonable to require applicants to certify the application as “accurate and complete” under penalty of perjury when some of the questions require the applicant provide answers on a “best guess” basis. In particular, the answers to the questions related to threat estimates, potential casualties, and potential casualty reductions were cited as questions whose answers may be essentially unknowable.

The Department agrees that it would be unreasonable to expect applicants to certify the accuracy of their speculative or predictive estimates of future events and risks, and does not believe that the application requires such a certification. The language of the certification is qualified by the phrase “to the best of my knowledge and belief.” Since the Applicant either knows, or is able to obtain, accurate factual information about the Applicant's ATT and business enterprise, the Department believes the certification is appropriate to factual information. Conversely, since estimates are by definition not factual information, the Department believes the certification only requires that estimates be provided in good faith with a reasonable belief they are as accurate as possible at the time of submission. The Department believes this burden is easily met if the Applicant provides sufficient additional information to allow the Department to understand the basis for the estimate, including both a description of the assumptions utilized and the analytical process applied. Nevertheless, the language of the Certification has been changed in the new application to clarify the distinction and make clear that only factual information is being certified as true and correct.

Bias Toward Product-based ATTs

Despite the assurances of the Interim Rule, particularly in the responses to comments on the Notice of Proposed Rulemaking, four commenters thought that the language of the Rule and of the Application Kit implicitly assumed product-like ATTs. The commenters seemed particularly concerned about the wording of the Application Kit.

While the Department is aware that some of the language in the prior version appears biased towards products, the Department believes this version adequately addresses this objection. In particular, the revised Application Kit makes clear that design services, integration services, consulting services, engineering services, software development, software integration, studies and analyses, threat assessments, and so forth are all Technologies under the SAFETY Act.

DATES: Written comments should be received on or before February 11, 2005 to be assured consideration.

ADDRESSES: Science and Technology Directorate, Attn: SAFETY Act, 245 Murray Drive, Bldg. 410 (RDS), Washington, DC 20528 and Office of Management and Budget (OMB), Office of Information and Regulatory Affairs, Attn: OMB Desk Officer for Homeland Security, Room 10235, Washington, DC 20503.

FOR FURTHER INFORMATION CONTACT: Erin O'Connell, (703) 575-4510 (this is not a toll free number).

SUPPLEMENTARY INFORMATION: Direct all written comments to both the Department of Homeland Security and the Office of Information and Regulatory Affairs at the addresses listed in this notice. A copy of the information collection requests with applicable supporting documentation may be obtained by calling the contact listed above.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis:

OMB Number: 1640-0001.

Title: Support Anti-terrorism by Fostering Effective Technologies Act of 2002 “ Application for SAFETY Act Benefits.

Frequency: On occasion.

Affected Public: Business or other for profit and not-for-profit institutions.

Estimated Number of Respondents: 750 respondents.

Estimated Time per Response: 40-160 hours per response (average = 100 hours per response).

Total Burden Hours: 75,000.

Total Burden Cost: (capital/startup): None.

Total Burden Cost: (operating/maintaining): None.

OMB Number: 1640-0002.

Title: Support Anti-terrorism by Fostering Effective Technologies Act of 2002—Registration of a Seller of Anti-Terrorism Technology (DHS-S&T-I-SAFETY-003).

Frequency: On occasion.

Affected Public: Business or other for profit, not-for-profit institutions.

Estimated Number of Respondents: 1,800.

Estimated Time per Response: 10-30 minutes (average = 20 minutes).

Total Burden Hours: 600.

Total Burden Cost: (capital/startup): None.

Total Burden Cost: (operating/maintaining): None.

OMB Number: 1640-0003.

Title: Support Anti-terrorism by Fostering Effective Technologies Act of 2002—Request for Pre-Application Consultation (DHS-S&T-I SAFETY 004).

Frequency: On occasion.

Affected Public: Business or other for profit, not-for-profit institutions.

Estimated Number of Respondents: 1,500.

Estimated Time per Response: 4-24 hours (average = 18 hours).

Total Burden Hours: 27,000.

Total Burden Cost: (capital/startup): None.

Total Burden Cost: (operating/maintaining): None.

OMB Number: 1640-0004.

Title: Support Anti-terrorism by Fostering Effective Technologies Act of 2002—Application for Modification to SAFETY Act Benefits (DHS-S&T-I SAFETY 005).

Frequency: On occasion.

Affected Public: Business or other for profit, not-for-profit institutions.

Estimated Number of Respondents: 150.

Estimated Time per Response: 2-12 hours (average = 8).

Total Burden Hours: 1,200.

Total Burden Cost: (capital/startup): None.

Total Burden Cost: (operating/maintaining): None.

OMB Number: 1640-0005.

Title: Support Anti-terrorism by Fostering Effective Technologies Act of 2002—Request for Transfer of SAFETY Act Benefits (DHS-S&T-I SAFETY 006).

Frequency: On occasion.

Affected Public: Business or other for profit, not-for-profit institutions.

Estimated Number of Respondents: 50.

Estimated Time per Response: 1-8 hours (average = 6).

Total Burden Hours: 300.

Total Burden Cost: (capital/startup): None.

Total Burden Cost: (operating/maintaining): None.

Description: The SAFETY ACT provides incentives for the development and deployment of Anti-Terrorism Technologies (ATTs) by creating a system of “risk management” and a system of “litigation management.” The purpose of the SAFETY ACT is to ensure that the threat of liability does not deter potential manufacturers or sellers of ATTs from developing and commercializing technologies that could significantly reduce the risks or mitigate the effects of terrorist events. Without these protections, important technologies are not being deployed to prevent harm resulting from a terrorist attack.

Dated: December 7, 2004.
Mark Emery,
Deputy, Chief Information Officer.

[FR Doc. 04-27272 Filed 12-10-04; 8:45 am]

BILLING CODE 4410-10-P